DEPARTMENT OF DEFENSE

Department of the Army

Programmatic Environmental Impact Statement for Training Mission and Mission Support Activities at Fort Campbell, KY

AGENCY: Department of the Army, DoD.

ACTION: Notice of availability.

SUMMARY: The Department of the Army announces the availability of the Final Programmatic Environmental Impact Statement (PEIS) for proposed training mission and mission support activities at Fort Campbell, KY. Pursuant to the National Environmental Policy Act of 1969 (NEPA), the Final PEIS analyzes the potential impacts of training and mission support activities on the environmental resources of Fort Campbell and the surrounding region. The Final PEIS assesses the No Action Alternative, four action alternatives, and a fifth alternative that would implement all of the separate action alternatives. The Proposed Action would meet the Senior Commander's Soldier training requirements, support the Range Complex Master Plan, and streamline the NEPA analysis process for routine range and training land actions occurring at Fort Campbell.

DATES: No decision will be made until at least 30 days after publication of the Notice of Availability in the Federal Register by the U.S. Environmental Protection Agency, at which time the Army will document its selection of alternative(s) in a Record of Decision.

ADDRESSES: Please send written comments to Mr. Gene Zirkle, NEPA/Wildlife Program Manager, Environmental Division, Building 2159 13th Street, Fort Campbell, KY 42223; or by email to gene.a.zirkle.civ@mail.mil.

FOR FURTHER INFORMATION CONTACT: Please contact Mr. Gene Zirkle, NEPA/Wildlife Program Manager, Environmental Division, 270-798-9854, during normal working business hours Monday through Friday, 7:30 a.m. to 4:00 p.m. CST; or by email to gene.a.zirkle.civ@mail.mil.

SUPPLEMENTARY INFORMATION: The Final PEIS has been prepared to meet the requirements of NEPA to evaluate the environmental and socioeconomic impacts, as well as cumulative impacts, of implementing the proposed actions at Fort Campbell. The Final PEIS takes into consideration comments received on the Draft PEIS. No substantial changes were made to the Final PEIS based on comments received during the Draft EIS comment period. The Final information includes impacts to, and mitigation for the Northern Long Eared Bat, which was listed as threatened after the Draft EIS was released. The resource areas evaluated include air quality, airspace, biological resources, cultural resources, energy, facilities, land use, hazardous materials/waste, noise, socioeconomics, soils, traffic and transportation, water resources, and wetland resources. There would be no significant impacts; however, moderate adverse impacts could occur to soils, biological resources, and water resources.

Fort Campbell covers 105,068 acres in Kentucky and Tennessee. Fort Campbell is home to the 101st Airborne Division (Air Assault), the 5th Special Forces Group, 160th Special Operations Aviation Regiment, and other tenant units. The mission of Fort Campbell is primarily to support and train the units stationed on the installation in preparation for a variety of assigned combat and combat related missions.

The purpose of the Proposed Action is to provide the forces that train on Fort Campbell with state-of-the-art training facilities and ranges. The action would also implement site-specific range modernization needs contained within the Range Complex Master Plan. The Final PEIS will also support future decisions regarding routine range and training land actions occurring at Fort Campbell that are not covered under an existing NEPA analysis.

The Final PEIS analyzes the potential environmental impacts of the No Action Alternative—continuing existing training missions and environmental programs, and maintaining existing environmental conditions through current operational controls. The PEIS analyzes four alternatives and one alternative implementing all of these alternatives:

• Alternative 1—Construct and Operate Site-Specific Projects in Support of Soldier Training.

• Alternative 2—Create Adaptable Use Zones (AUZs) to Facilitate Future Modernization and Range Facility Construction.

• Alternative 3—Implement Routine Range and Training Land Actions and Environmental Stewardship Practices.

• Alternative 4—Evaluate the Reactivation of Installation Controlled Airspace.

• Alternative 5—Implement Action Alternatives 1-4.

The preferred alternative is Alternative 5.

The U.S. Army plans to issue a Record of Decision no earlier than 30 days after the date of the U.S. Environmental Protection Agency's Notice of Availability. The Final PEIS is available at http://www.campbell.army.mil/Pages/TMMSA.aspx.

Brenda S. Bowen,
Army Federal Register Liaison Officer.

[FR Doc. 2016-11285 Filed 5-12-16; 8:45 am]

BILLING CODE 5001-03-P